FEDERAL COMMUNICATIONS COMMISSION

[WC Docket No. 23-1; DA 23-697; FR ID [164366]

Next Meeting of the North American Numbering Council

AGENCY: Federal Communications Commission.

ACTION: Notice.

SUMMARY: In this document, the Commission released a public notice announcing the date of the first meeting of the North American Numbering Council (NANC) under its renewed charter running from September 2023 to September 2025.

DATES: October 25, 2023. The meeting will come to order at 2:00 p.m.

ADDRESSES: The meeting will be conducted via video conference and will be available to the public via the internet at http://www.fcc.gov/live.

FOR FURTHER INFORMATION CONTACT: You may also contact Christi Shewman, Designated Federal Officer, at christi.shewman@fcc.gov or 202-418-0646. More information about the NANC is available at https://www.fcc.gov/about-fcc/advisory-committees/general/north-american-numbering-council.

SUPPLEMENTARY INFORMATION: The NANC meeting is open to the public on the internet via live feed from the FCC's web page at http://www.fcc.gov/live. Open captioning will be provided for this event. Other reasonable accommodations for people with disabilities are available upon request. Requests for such accommodations should be submitted via email to fcc504@fcc.gov or by calling the Consumer and Governmental Affairs Bureau at (202) 418-0530 (voice). Such requests should include a detailed description of the accommodation needed. In addition, please include a way for the FCC to contact the requester if more information is needed to fill the request. Please allow at least five days' advance notice for accommodation requests; last minute requests will be accepted but may not be possible to accommodate. Members of the public may submit comments to the NANC in the FCC's Electronic Comment Filing System, ECFS, at www.fcc.gov/ecfs. Comments to the NANC should be filed in WC Docket No. 23-1. This is a summary of the Commission's document in WC Docket No. 23-1, DA 23-697, released August 14, 2023.

Proposed Agenda: At the October meeting, the NANC members will introduce themselves and receive guidance from the Commission's Offices of General Counsel and Managing Director concerning federal advisory committee best practices. This agenda may be modified at the discretion of the NANC Chairwoman and the Designated Federal Officer. (5 U.S.C. app. 2 10(a)(2))

Federal Communications Commission.
Jodie May,
Division Chief, Competition Policy Division, Wireline Competition Bureau.

[FR Doc. 2023-17956 Filed 8-18-23; 8:45 am]

BILLING CODE 6712-01-P